DEPARTMENT OF DEFENSE

Office of the Secretary

Veterans' Advisory Board on Dose Reconstruction

AGENCY: Department of Defense, Defense Threat Reduction Agency.

ACTION: Notice of advisory board meeting.

SUMMARY: The Defense Threat Reduction Agency (DTRA) and the Department of Veterans Affairs (VA) will hold the second public meeting of the Veterans' Advisory Board on Dose Reconstruction (VBDR). The VBDR was established at the recommendation of the National Research Council report, entitled “Review of the Dose Reconstruction Program of the Defense Threat Reduction Agency.” The report recommended the need to establish an advisory board that will provide suggestions for improvements in dose reconstruction and claim adjudication procedures. The goal of VBDR is to provide guidance and oversight of the dose reconstruction and claims compensation programs for veterans of U.S.-sponsored atmospheric nuclear weapons tests from 1945-1962; veterans of the 1945-1946 occupation of Hiroshima and Nagasaki, Japan; and veterans who were prisoners of war in those regions at the conclusion of World War II. In addition, the advisory board will assist VA and DTRA in communicating with the veterans.

Radiation does reconstruction has been carried out by the Department of Defense under the Nuclear Test Personnel Review (NTPR) program since the 1970s. DTRA is the executive agent for the NTPR program which provides participation data and actual or estimated radiation dose information to veterans and the VA.

Board members were selected to fulfill the statutory requirements mandated by Congress in Section 601 of Public Law 108-183. The Board was appointed on June 3, 2005, and is comprised of 16 members. Board members were selected to provide expertise in historical dose reconstruction, radiation health matters, risk communications, radiation epidemiology, medicine, quality management, decision analysis and ethics in order to appropriately enable the VBDR to represent and address veterans' concerns.

The Board is governed by the provisions of the Federal Advisory Committee Act (FACA), Public Law 92-463, which sets forth standards for the formation and conduct of government advisory committees.

DATES: Thursday, January 12, 2006, from 8:30 a.m.-12 p.m. and 4-6 p.m. with a public comment session from 1:30-3:30 p.m., and Friday, January 13, 2006, from 8:30 a.m.-12 p.m. and 3:15-5 p.m., with a public comment session from 1:30-3 p.m.

ADDRESSES: Sheraton Gateway Hotel, Los Angeles Airport, 6101 West Century Boulevard, Los Angeles, CA 90045.

AGENDA: On Thursday, the meeting will open with a discussion of the charge and responsibilities of the advisory board, and will review and approve the minutes of the inaugural VBDR meeting conducted August 17-18, 2005 in Tampa, FL. The following briefings will be presented: “Interactive Radio-Epidemiological Program: Future Development” by Dr. Charles Land; “NAS Report: Assessment of the Scientific Information for the Radiation Exposure Screening and Education Program” by Dr. Julian Preston; “NTPR Dose Reconstruction, Quality Assurance Manuals and Veterans Communication Activities” by Dr. Paul Blake; and “VA Radiation Claims Compensation Program for Veterans, and VA Quality Assurance Manuals” by Mr. Thomas Pamperin.

On Friday, the four subcommittees established during the inaugural VBDR session will report on their activities since August 2005. The subcommittees are the “Subcommittee on DTRA Dose Reconstruction Procdures”, the “Subcommittee on VA Claims Adjudication Procedures”, the “Subcommittee on Quality Management and VA Process Integration with DTRA Nuclear Test Personnel Review Program”, and the “Subcommittee on Communication and Outreach.” The Board will close with a discussion of the Subcommittee reports, future business and meeting dates.

FOR FURTHER INFORMATION CONTACT: The Veterans' Advisory Board on Dose Reconstruction hotline at 1-866-657-VBDR (8237).

SUPPLEMENTARY INFORMATION: May be found at http://vbdr.org.

Dated: December 15, 2005.
L.M. Bynum,
OSD Federal Register Liaison Officer, Department of Defense.

[FR Doc. 05-24291 Filed 12-20-05; 8:45 am]

BILLING CODE 5001-06-M